INTERNATIONAL TRADE COMMISSION

[Investigation Nos. 701-TA-531-532 and 731-TA-1270-1273 (Final)]

Polyethylene Terephthalate Resin From Canada, China, India, and Oman

Determinations

On the basis of the record ¹ developed in the subject investigations, the United States International Trade Commission (“Commission”) determines, pursuant to the Tariff Act of 1930 (“the Act”), that an industry in the United States is materially injured by reason of imports of polyethylene terephthalate (“PET”) resin, provided for in subheading 3907.60.00 of the Harmonized Tariff Schedule of the United States, that have been found by the Department of Commerce (“Commerce”) to be sold in the United States at less than fair value (“LTFV”) with respect to Canada, China, India, and Oman and have been found by Commerce to be subsidized by the governments of China and India.²

¹ The record is defined in sec. 207.2(f) of the Commission's Rules of Practice and Procedure (19 CFR 207.2(f)).

² All six Commissioners voted in the affirmative. The Commission also finds that imports subject to Commerce's affirmative critical circumstances determinations are not likely to undermine seriously the remedial effect of the countervailing and antidumping duty orders on PET resin from India.

Background

The Commission, pursuant to sections 705(b) and 735(b) of the Tariff Act of 1930 (19 U.S.C. 1671d(b) and 19 U.S.C. 1673d(b)), instituted these investigations effective March 10, 2015, following receipt of a petition filed with the Commission and Commerce by DAK Americas, LLC, Charlotte, North Carolina; M&G Chemicals, Houston, Texas; and Nan Ya Plastics Corporation, America, Lake City, South Carolina. The final phase of the investigations was scheduled by the Commission following notification of preliminary determinations by Commerce that imports of PET resin from China, India, and Oman ³ were subsidized within the meaning of section 703(b) of the Act (19 U.S.C. 1671b(b)) and that imports of PET resin from Canada, China, India, and Oman were dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on November 5, 2016 (80 FR 68563). The hearing was held in Washington, DC, on March 1, 2016, and all persons who requested the opportunity were permitted to appear in person or by counsel.

³ Commerce determined that countervailable subsidies are not being provided to producers and exporters of PET resin from Oman. Certain Polyethylene Terephthalate Resin from the Sultanate of Oman: Final Negative Countervailing Duty Determination, 81 FR 13321, March 14, 2016. The Commission subsequently terminated its countervailing duty investigation with respect to Oman. Polyethylene Terephthalate Resin from Oman; Termination of Investigation, 81 FR 19638, April 5, 2016.

The Commission made these determinations pursuant to sections 705(b) and 735(b) of the Tariff Act of 1930 (19 U.S.C. 1671d(b) and 19 U.S.C. 1673d(b)). It completed and filed its determinations in these investigations by April 28, 2016. The views of the Commission are contained in USITC Publication 4604 (April 2016), entitled Polyethylene Terephthalate (PET) Resin from Canada, China, India, and Oman: Investigation Nos. 701-TA-531-532 and 731-TA-1270-1273 (Final).

By order of the Commission.
Issued: April 29, 2016.
Lisa R. Barton,
Secretary to the Commission.

[FR Doc. 2016-10417 Filed 5-3-16; 8:45 am]

BILLING CODE 7020-02-P